DEPARTMENT OF ENERGY

Federal Energy Regulatory Commission

Combined Notice of Filings

Take notice that the Commission has received the following Natural Gas Pipeline Rate and Refund Report filings:

Filings Instituting Proceedings

Docket Numbers: RP18-321-000.

Applicants: Iroquois Gas Transmission System, L.P.

Description: § 4(d) Rate Filing: 010418 Negotiated Rates—Consolidated Edison Energy R-2275-13 to be effective 1/4/2018.

Filed Date: 1/5/18.

Accession Number: 20180105-5030.

Comments Due: 5 p.m. ET 1/17/18.

Docket Numbers: RP18-324-000.

Applicants: Iroquois Gas Transmission System, L.P.

Description: § 4(d) Rate Filing: 010418 Negotiated Rates—Consolidated Edison Energy, Inc. H-2275-89 to be effective 1/4/2018.

Filed Date: 1/5/18.

Accession Number: 20180105-5033.

Comments Due: 5 p.m. ET 1/17/18.

Docket Numbers: RP18-325-000.

Applicants: Gas Transmission Northwest LLC.

Description: Interruptible Transportation Refund Report for the Coyote Springs Lateral of Gas Transmission Northwest LLC.

Filed Date: 1/5/18.

Accession Number: 20180105-5064.

Comments Due: 5 p.m. ET 1/17/18.

Docket Numbers: RP18-326-000.

Applicants: Viking Gas Transmission Company.

Description: § 4(d) Rate Filing: Negotiated Rate PAL Agreements—Sequent & Koch to be effective 1/5/2018.

Filed Date: 1/5/18.

Accession Number: 20180105-5072.

Comments Due: 5 p.m. ET 1/17/18.

Docket Numbers: RP18-327-000.

Applicants: Gulf Crossing Pipeline Company LLC.

Description: § 4(d) Rate Filing: Capacity Release Agmts with Neg Rate Provisions to be effective 11/1/2017.

Filed Date: 1/5/18.

Accession Number: 20180105-5101.

Comments Due: 5 p.m. ET 1/17/18.

Docket Numbers: RP18-328-000.

Applicants: Texas Eastern Transmission, LP.

Description: § 4(d) Rate Filing: Negotiated Rate—Range Amended NRA 911376 to be effective 1/6/2018.

Filed Date: 1/5/18.

Accession Number: 20180105-5133.

Comments Due: 5 p.m. ET 1/17/18.

Docket Numbers: RP18-329-000.

Applicants: Wyoming Interstate Company, L.L.C.

Description: § 4(d) Rate Filing: Merger Filing 2018 to be effective 2/5/2018.

Filed Date: 1/5/18.

Accession Number: 20180105-5160.

Comments Due: 5 p.m. ET 1/17/18.

Docket Numbers: RP18-330-000.

Applicants: Iroquois Gas Transmission System, L.P.

Description: § 4(d) Rate Filing: 010518 Negotiated Rates—Sierentz Global Merchants LLC R-7845-03 to be effective 1/5/2018.

Filed Date: 1/5/18.

Accession Number: 20180105-5191.

Comments Due: 5 p.m. ET 1/17/18.

Docket Numbers: RP18-331-000.

Applicants: Iroquois Gas Transmission System, L.P.

Description: § 4(d) Rate Filing: 010518 Negotiated Rates—Statoil Natural Gas LLC R-7120-04 to be effective 1/5/2018.

Filed Date: 1/5/18.

Accession Number: 20180105-5193.

Comments Due: 5 p.m. ET 1/17/18.

Docket Numbers: RP18-332-000.

Applicants: Iroquois Gas Transmission System, L.P.

Description: § 4(d) Rate Filing: 010518 Negotiated Rates—ENI Trading & Shipping Inc. R-7825-03 to be effective 1/5/2018.

Filed Date: 1/5/18.

Accession Number: 20180105-5195.

Comments Due: 5 p.m. ET 1/17/18.

Docket Numbers: RP18-333-000.

Applicants: Iroquois Gas Transmission System, L.P.

Description: § 4(d) Rate Filing: 010518 Negotiated Rates—Wells Fargo Commodities, LLC R-7810-04 to be effective 1/5/2018.

Filed Date: 1/5/18.

Accession Number: 20180105-5196.

Comments Due: 5 p.m. ET 1/17/18.

Docket Numbers: RP18-334-000.

Applicants: Guardian Pipeline, L.L.C.

Description: § 4(d) Rate Filing: Negotiated Rate PAL Agreement—EDF & MIECO to be effective 1/5/2018.

Filed Date: 1/5/18.

Accession Number: 20180105-5198.

Comments Due: 5 p.m. ET 1/17/18.

Docket Numbers: RP18-335-000.

Applicants: Saltville Gas Storage Company L.L.C.

Description: § 4(d) Rate Filing: Duke Neg Rate Release k490099 to be effective 1/6/2018.

Filed Date: 1/8/18.

Accession Number: 20180108-5038.

Comments Due: 5 p.m. ET 1/22/18.

Docket Numbers: RP18-336-000.

Applicants: Algonquin Gas Transmission, LLC.

Description: § 4(d) Rate Filing: Update to Contact Person to be effective 2/7/2018.

Filed Date: 1/8/18.

Accession Number: 20180108-5047.

Comments Due: 5 p.m. ET 1/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2018.
Kimberly D. Bose,
Secretary.

[FR Doc. 2018-00749 Filed 1-17-18; 8:45 am]

BILLING CODE 6717-01-P